DEPARTMENT OF COMMERCE

National Oceanic and Atmospheric Administration

RIN 0648-XI89

Endangered Species; File No. 1551

AGENCY: National Marine Fisheries Service (NMFS), National Oceanic and Atmospheric Administration (NOAA), Commerce.

ACTION: Issuance of permit.

SUMMARY: Notice is hereby given that the Southeast Fisheries Science Center (SEFSC), National Marine Fisheries Service (NMFS), 75 Virginia Beach Drive Miami, Florida 33149, has been issued a permit to take green (Chelonia mydas), loggerhead (Caretta caretta), hawksbill (Eretmochelys imbricata), olive ridley (Lepidochelys olivacea), leatherback (Dermochelys coriacea), and Kemp's ridley (Lepidochelys kempii) sea turtles for purposes of scientific research.

ADDRESSES: The permits and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Patrick Opay or Amy Hapeman, (301)713-2289.

SUPPLEMENTARY INFORMATION: On February 7, 2006, notice was published in the Federal Register (71 FR 6272) that a request for scientific research permit to take sea turtles had been submitted by the above-named institution. The requested permit has been issued under the authority of the Endangered Species Act of 1973, as amended (ESA; 16 U.S.C. 1531 et seq.) and the regulations governing the taking, importing, and exporting of endangered and threatened species (50 CFR parts 222-226).

The research will be conducted each year over the course of a five-year permit in coastal and inshore waters of the North Atlantic, Gulf of Mexico and Caribbean Sea (including embayments and tributaries). Turtles will be taken by harassment (e.g., aerial surveys) and direct capture (pound nets, entanglement/strike nets, seine nets, hoop nets, dipnets, cast nets, and by hand). Researchers will also access animals legally captured incidental to fishing activities where covered by the incidental take statement (ITS) of an ESA section 7 biological opinion or by an ESA incidental take permit. Animals used in this research could also be obtained from other Section 10 permitted research activities. Researchers will conduct a variety sampling and tagging activities in order to collect biological and ecological information on these species that will help efforts to conserve them.

Issuance of this permit, as required by the ESA, was based on a finding that such permit (1) was applied for in good faith, (2) will not operate to the disadvantage of such endangered or threatened species, and (3) is consistent with the purposes and policies set forth in section 2 of the ESA.

Dated: July 25, 2008.
P. Michael Payne,
Chief, Permits, Conservation and Education Division, Office of Protected Resources, National Marine Fisheries Service.

[FR Doc. E8-17469 Filed 7-29-08; 8:45 am]

BILLING CODE 3510-22-S